ENVIRONMENTAL PROTECTION AGENCY

40 CFR Part 52

[AL-054-200027(b); FRL-6910-7]

Approval and Promulgation of Implementation Plans: Revisions to the Alabama Department of Environmental Management (ADEM) Administrative Code for the Air Pollution Control Program

AGENCY: Environmental Protection Agency (EPA).

ACTION: Proposed rule.

SUMMARY: The EPA is proposing approval of revisions to the Alabama Department of Environmental Management's (ADEM) Administrative Code submitted on August 10, 2000, by the State of Alabama. The revisions comply with the regulations set forth in the Clean Air Act (CAA). On August 10, 2000, the State of Alabama through ADEM submitted revisions to chapters 335-3-1, 2, 3, 4, 5, 6, 9, 12, 14, 15, and 16. In chapter 335-3-1 the definition of “New Source” is being clarified to indicate that it is not applicable to the definitions of new source in chapters 335-3-10 Standards of Performance for New Stationary Sources and chapter 11 National Emission Standard for Hazardous Air Pollutants, which are not part of the federally enforceable state implementation plan (SIP).

ADEM combined rule 335-3-5-.03(5) and 335-3-5-.03(6) to be consistent with Alabama Administrative Procedures Act, and revised rule 335-3-14-.05(2)(i) to be consistent with 40 CFR 51, subpart I. ADEM deleted rule 335-3-4-.08(4) pertaining to emissions from wood waste boilers at pulp mills in Autauga County. International Paper (formally Union Camp) operates the only pulp mill in Autauga County which has been upgraded and no longer requires a bubble. The Union Camp boilers are subject to other emission limits in the federally approved SIP.

ADEM revised the numbering system in chapters 335-3-1, 2, 3, 4, 5, 6, 9, 12, 14, 15, and 16 to comply with numbering system required by the Legislative Reference Service under Alabama Administrative Procedures Act.

In the Final Rules Section of this Federal Register, the EPA is approving the State's SIP revision as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. The EPA will not institute a second comment period on this document. Any parties interested in commenting on this document should do so at this time.

DATES: Written comments must be received on or before January 8, 2001.

ADDRESSES: Written comments should be addressed to Sean Lakeman, at the EPA Regional Office listed below. The interested persons wanting to examine these documents should make an appointment with the appropriate office at least 24 hours before the visiting day. Copies of the documents relative to this action are available for public inspection during normal business hours at the following locations:

Air and Radiation Docket and Information Center (Air Docket 6102), U.S. Environmental Protection Agency, 401 M Street, SW., Washington, DC 20460.

U.S. Environmental Protection Agency, Region 4, Atlanta Federal Center, Air, Pesticides, and Toxics Management Division, 61 Forsyth Street, Atlanta, Georgia 30303-3104.

FOR FURTHER INFORMATION CONTACT: Sean Lakeman of the EPA Region 4, Air Planning Branch at (404) 562-9043 and at the above address.

SUPPLEMENTARY INFORMATION: For additional information see the direct final rule which is published in the Final Rules Section of this Federal Register.

Dated: November 8, 2000.
A. Stanley Meiburg,
Acting Regional Administrator, Region 4.

[FR Doc. 00-30636 Filed 12-7-00; 8:45 am]

BILLING CODE 6560-50-U